DEPARTMENT OF ENERGY

Federal Energy Regulatory Commission

[Docket No. OR12-28-000]

Delta Air Lines, Inc., Continental Airlines, Inc., JetBlue Airways Corporation, United Air Lines, Inc., US Airways, Inc. v. Buckey Pipe Line Company, L.P.; Notice of Complaint

Take notice that on September 20, 2012, pursuant to sections 1(5), 8, 9, 13, 15 and 16 of the Interstate Commerce Act, 49 U.S.C. App. §§ 1(5), 8, 9, 13, 15 and 16; section 1803 of the Energy Policy Act of 1992 (Pub. L. 102-486, 106 Stat. 2772) (1992); Rule 206 of the Rules of Practice and Procedure of the Federal Energy Regulatory Commission (Commission), 18 CFR 385.206 (2012); and Rules 343.1(a) and 343.2(c) of the Commission's Procedural Rules Applicable to Oil Pipeline Proceedings, 18 CFR 343.1(a) and 343.2(c); Delta Air Lines, Inc., Continental Airlines, Inc., JetBlue Airways Corporation, United Air Lines, Inc., and US Airways, Inc. (collectively, Complainants) filed a formal complaint against Buckeye Pipe Line Company, L.P. (Respondent), challenging the lawfulness of the rates charged by the Respondent for transportation of jet or aviation turbine fuel on its interstate pipeline system. Complainants allege that the Respondent's rates are unjust and unreasonable, as more fully described in the complaint.

Complainants state that a copy of the Complaint has been served on the contact for the Respondent as listed on the Commission list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer, motions to intervene, and protests must be filed on or before the comment date. The Respondent's answer, motions to intervene, and protests must be served on the Complainant.

The Commission encourages electronic submission of protests and interventions in lieu of paper using the “eFiling” link at http://www.ferc.gov. Persons unable to file electronically should submit an original and 14 copies of protests and interventions to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket. For assistance with any FERC Online service, please email FERCOnlineSupport@ferc.gov, or call (866) 208-3676 (toll free). For TTY, call (202) 502-8659.

Comment Date: 5 p.m. Eastern Time on October 10, 2012.

Dated: September 21, 2012.
Nathaniel J. Davis, Sr.,
Deputy Secretary.

[FR Doc. 2012-23787 Filed 9-26-12; 8:45 am]

BILLING CODE 6717-01-P